DEPARTMENT OF HOMELAND SECURITY

Federal Emergency Management Agency

44 CFR Part 67

[Docket No. FEMA-B-7792]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before October 21, 2008.

ADDRESSES: The corresponding preliminary Flood Insurance Rate Map (FIRM) for the proposed BFEs for each community are available for inspection at the community's map repository. The respective addresses are listed in the table below.

You may submit comments, identified by Docket No. FEMA-B-7792, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground: Effective | * Elevation in feet (NGVD) + Elevation in feet (NAVD) # Depth in feet above ground: Modified | Communities affected
Walton County, Florida, and Incorporated Areas
Bay Branch | At the confluence with Bruce Creek | None | +106 | Unincorporated Areas of Walton County, City of Defuniak Springs.
| Approximately 900 feet upstream of U.S. Highway 331 | None | +125
Black Creek | At County Highway 3280 | None | +7 | Unincorporated Areas of Walton County.
| Approximately 1,570 feet upstream of County Highway 3280 | None | +7
Bruce Creek | Approximately 1,100 feet downstream of the confluence with Mill Creek | None | +72 | Unincorporated Areas of Walton County, City of Defuniak Springs.
| Approximately 6,700 feet upstream of the confluence with Bay Branch | None | +114
Camp Creek | Approximately 5,400 feet upstream of the confluence with Black Creek | None | +7 | Unincorporated Areas of Walton County.
| At the confluence with Black Creek | None | +7
Gum Creek | At the confluence with the Shoal River | None | +150 | Unincorporated Areas of Walton County.
| Approximately 12,700 feet upstream of the confluence with the Shoal River | None | +156
Lafayette Creek | At State Highway 20 | None | +10 | Unincorporated Areas of Walton County, City of Freeport.
| Approximately 4,000 feet upstream of J.W. Hollington Road | None | +58
Mill Creek | At the confluence with Bruce Creek | None | +73 | Unincorporated Areas of Walton County.
| Approximately 75 feet upstream of Edgewood Circle | None | +146
Mill Creek Unnamed Tributary | At the confluence with Mill Creek | None | +124 | Unincorporated Areas of Walton County.
| Approximately 200 feet upstream of Edgewood Circle | None | +175
Pate Branch | At the confluence with Camp Creek | None | +7 | Unincorporated Areas of Walton County.
| Approximately 3,900 feet upstream of the confluence with Camp Creek | None | +7
Shoal River | At the Okaloosa/Walton County boundary | None | +111 | Unincorporated Areas of Walton County.
| At the confluence with Gum Creek | None | +150
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Defuniak Springs
Maps are available for inspection at Defuniak Springs City Hall, 71 U.S. Highway 90 West, Defuniak Springs, FL.
City of Freeport
Maps are available for inspection at Town of Freeport Planning and Zoning Department, 112 Highway 20 West, Freeport, FL.
Unincorporated Areas of Walton County
Maps are available for inspection at Walton County Planning and Development Department, South Walton County Courthouse Annex, 31 Coastal Centre Boulevard, Santa Rosa Beach, FL.
Catoosa County, Georgia, and Incorporated Areas
Hurricane Creek | Approximately 660 feet downstream of Cherokee Valley Road | None | +824 | Unincorporated Areas of Catoosa County.
| At confluence of Johnson Branch | None | +825
Johnson Branch | At confluence with Hurricane Creek | None | +825 | Unincorporated Areas of Catoosa County.
| Approximately 840 feet upstream of confluence with Hurricane Creek | None | +827
Tributary No. 1 to Black Branch | Approximately 600 feet upstream of Elaine Circle | None | +715 | City of Fort Oglethorpe.
| Approximately 750 feet upstream of Elaine Circle | None | +716
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Fort Oglethorpe
Maps are available for inspection at City Hall, 500 City Hall Drive, Fort Oglethorpe, GA 30747.
Unincorporated Areas of Catoosa County
Maps are available for inspection at 800 Lafayette Street, Ringgold, GA 30736.
Delaware County, Iowa, and Incorporated Areas
Maquoketa River | Approximately 750 feet downstream of U.S. Highway 20 | None | +919 | Unincorporated Areas of Delaware County.
| Approximately 525 feet upstream of U.S. Highway 20 | None | +920
| Approximately 0.89 mile upstream of West Main Street | None | +935
| Approximately 1.55 miles upstream of West Main Street | None | +936
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Delaware County
Maps are available for inspection at 301 East Main Street, Manchester, IA 52057.
Gates County, North Carolina, and Incorporated Areas
Acorn Hill Millpond | Approximately 0.5 mile downstream of U.S. Highway 158 | None | +20 | Unincorporated Areas of Gates County.
| Approximately 1.0 mile upstream of the confluence with Acorn Hill Millpond Tributary 1 | None | +32
Beaverdam Creek | Approximately 0.8 mile downstream of confluence of Beaverdam Creek Tributary 1 | None | +12 | Unincorporated Areas of Gates County.
| Approximately 1.4 miles upstream of Saunders Road (State Road 1208) | None | +44
Beaverdam Creek Tributary 1 | At the confluence with Beaverdam Creek | None | +19 | Unincorporated Areas of Gates County.
| Approximately 500 feet downstream of Saunders Road (State Road 1208) | None | +24
Beaverdam Creek Tributary 2 | At the confluence with Beaverdam Creek | None | +28 | Unincorporated Areas of Gates County.
| Approximately 0.7 mile upstream of the confluence with Beaverdam Creek | None | +34
Beaverdam Creek Tributary 3 | At the confluence with Beaverdam Creek | None | +31 | Unincorporated Areas of Gates County.
| Approximately 0.9 mile upstream of the confluence of Beaverdam Creek | None | +38
Bennetts Creek | Approximately 3.0 miles upstream of the confluence with Chowan River | None | +7 | Unincorporated Areas of Gates County, Town of Gatesville.
| At the confluence of Harrell Swamp and Raynor Swamp | +26 | +19
Bennetts Creek Tributary 1 | At the confluence with Bennetts Creek | None | +7 | Unincorporated Areas of Gates County.
| Approximately 1.5 miles upstream of the confluence with Bennetts Creek Tributary 1A | None | +12
Bennetts Creek Tributary 10 | At the confluence with Bennetts Creek | None | +19 | Unincorporated Areas of Gates County.
| Approximately 0.6 mile upstream of Gatlin Road (State Road 1407) | None | +37
Bennetts Creek Tributary 1A | At the confluence with Bennetts Creek Tributary 1 | None | +7 | Unincorporated Areas of Gates County.
| Approximately 1.2 miles upstream of the confluence with Bennetts Creek Tributary 1A1 | None | +16
Bennetts Creek Tributary 1A1 | At the confluence with Bennetts Creek Tributary 1A | None | +7 | Unincorporated Areas of Gates County.
| Approximately 60 feet downstream of Horace Carter Road (State Road 1106) | None | +11
Bennetts Creek Tributary 2 | At the confluence with Bennetts Creek | None | +8 | Unincorporated Areas of Gates County.
| Approximately 1.1 miles upstream of the confluence with Bennetts Creek | None | +12
Bennetts Creek Tributary 3 | At the confluence with Bennetts Creek | None | +12 | Unincorporated Areas of Gates County.
| Approximately 0.7 mile upstream of the confluence with Bennetts Creek | None | +36
Bennetts Creek Tributary 4 | At the confluence with Bennetts Creek | None | +12 | Unincorporated Areas of Gates County.
| Approximately 1.3 miles upstream of U.S. Highway 158 | None | +24
Bennetts Creek Tributary 4A | At the confluence with Bennetts Creek Tributary 4 | None | +12 | Unincorporated Areas of Gates County.
| Approximately 180 feet upstream of U.S. Highway 158 | None | +31
Bennetts Creek Tributary 4B | At the confluence with Bennetts Creek Tributary 4 | None | +12 | Unincorporated Areas of Gates County.
| Approximately 1,750 feet upstream of the confluence with Bennetts Creek Tributary 4 | None | +15
Bennetts Creek Tributary 5 | At the confluence with Bennetts Creek | None | +12 | Unincorporated Areas of Gates County.
| Approximately 0.5 mile upstream of Silver Spring Road (State Road 1404) | None | +31
Bennetts Creek Tributary 5A | At the confluence with Bennetts Creek Tributary 5 | None | +12 | Unincorporated Areas of Gates County.
| Approximately 0.8 mile upstream of the confluence with Bennetts Creek Tributary 5 | None | +30
Bennetts Creek Tributary 6 | At the confluence with Bennetts Creek | None | +13 | Unincorporated Areas of Gates County.
| Approximately 75 feet downstream of U.S. Highway 158 | None | +33
Bennetts Creek Tributary 7 | At the confluence with Bennetts Creek | None | +15 | Unincorporated Areas of Gates County.
| Approximately 900 feet upstream of Silver Spring Road (State Road 1404) | None | +20
Bennetts Creek Tributary 8 | At the confluence with Bennetts Creek | None | +15 | Unincorporated Areas of Gates County.
| Approximately 650 feet downstream of Silver Spring Road (Sate Road 1404) | None | +21
Bennetts Creek Tributary 9 | At the confluence with Bennetts Creek | None | +15 | Unincorporated Areas of Gates County.
| Approximately 600 feet upstream of Gatlin Road (State Road 1407) | None | +23
Blackwater River | At the confluence with Chowan River | None | +13 | Unincorporated Areas of Gates County.
| Approximately 0.6 mile upstream of the confluence with Chowan River | None | +13
Buckland Mill Branch | At the confluence with Cole Creek And Hackley Swamp | None | +23 | Unincorporated Areas of Gates County.
| Approximately 1,600 feet upstream of Gates Bank Road (State Road 1302) | None | +39
Buckland Mill Branch Tributary 1 | At the confluence with Buckland Mill Branch | None | +28 | Unincorporated Areas of Gates County.
| Approximately 0.6 mile upstream of Willeytown Road (State Road 1304) | None | +31
Buckland Mill Branch Tributary 2 | At the confluence with Buckland Mill Branch | None | +29 | Unincorporated Areas of Gates County.
| Approximately 0.4 mile upstream of the confluence with Buckland Mill Branch | None | +40
Chowan River | Approximately 0.5 mile upstream of the confluence with Chowan River Tributary 1 | None | +7 | Unincorporated Areas of Gates County, Town of Gatesville.
| At the confluence of Blackwater River and Nottoway River | None | +13
Cole Creek | At the confluence with Sarem Creek | None | +7 | Unincorporated Areas of Gates County.
| At the confluence of Buckland Mill Branch and Hackley Swamp | None | +23
Cole Creek Tributary 1 | At the confluence with Cole Creek | None | +7 | Unincorporated Areas of Gates County.
| Approximately 0.8 mile upstream of Turner Road (State Road 1114) | None | +25
Cole Creek Tributary 2 | At the confluence with Cole Creek | None | +8 | Unincorporated Areas of Gates County.
| Approximately 780 feet upstream of U.S. Highway Business 158 | None | +30
Cole Creek Tributary 3 | At the confluence with Cole Creek | None | +9 | Unincorporated Areas of Gates County.
| Approximately 0.8 mile upstream of the confluence with Cole Creek | None | +17
Cole Creek Tributary 4 | At the confluence with Cole Creek | None | +11 | Unincorporated Areas of Gates County.
| Approximately 0.6 mile upstream of the confluence with Cole Creek | None | +16
Cole Creek Tributary 5 | At the confluence with Cole Creek | None | +12 | Unincorporated Areas of Gates County.
| Approximately 550 feet upstream of U.S. Highway 158 | None | +33
Cole Creek Tributary 6 | At the confluence with Cole Creek | None | +18 | Unincorporated Areas of Gates County.
| Approximately 375 feet downstream of Cotton Gin Road (State Road 1315) | None | +24
Corapeake Swamp | Approximately 500 feet downstream of Daniels Road (State Road 1332) | None | +22 | Unincorporated Areas of Gates County.
| At the confluence of Corapeake Swamp Tributary 1 | None | +33
Corapeake Swamp Tributary 1 | At the confluence with Corapeake Swamp | None | +33 | Unincorporated Areas of Gates County.
| Approximately 0.9 mile upstream of the confluence with Corapeake Swamp | None | +35
Cypress Swamp | Just upstream of NC Highway 137 | None | +16 | Unincorporated Areas of Gates County.
| Approximately 0.6 mile upstream of NC Highway 137 | None | +16
Duke Swamp | At the confluence with Harrell Swamp | +26 | +21 | Unincorporated Areas of Gates County.
| Approximately 1.5 miles upstream of the confluence with Duke Swamp Tributary 5 | None | +47
Duke Swamp Tributary 1 | At the confluence with Duke Swamp | None | +23 | Unincorporated Areas of Gates County.
| Approximately 0.6 mile upstream of the confluence with Duke Swamp | None | +33
Duke Swamp Tributary 2 | At the confluence with Duke Swamp | None | +24 | Unincorporated Areas of Gates County.
| Approximately 240 feet downstream of NC Highway 32 | None | +37
Duke Swamp Tributary 3 | At the confluence with Duke Swamp | None | +25 | Unincorporated Areas of Gates County.
| Approximately 0.8 mile upstream of the confluence with Duke Swamp | None | +28
Duke Swamp Tributary 4 | At the confluence with Duke Swamp | None | +27 | Unincorporated Areas of Gates County.
| Approximately 0.8 mile upstream of Union Branch Road (State Road 1305) | None | +31
Duke Swamp Tributary 5 | At the confluence with Duke Swamp | None | +37 | Unincorporated Areas of Gates County.
| Approximately 1,000 feet upstream of Drum Hill Road (State Road 1308) | None | +49
Ellis Swamp | At the confluence with Jady Branch | None | +22 | Unincorporated Areas of Gates County.
| Approximately 300 feet upstream of Corner High Road (State Road 1126) | None | +22
Ellis Swamp Tributary 1 | At the confluence with Ellis Swamp | None | +22 | Unincorporated Areas of Gates County.
| Approximately 1.3 miles upstream of the confluence with Ellis Swamp | None | +24
Flat Branch | At the confluence with Hackley Swamp | None | +24 | Unincorporated Areas of Gates County.
| Approximately 150 feet downstream of U.S. Highway 13 | None | +34
Folly Swamp | Approximately 1.5 miles downstream of NC Highway 32 | None | +26 | Unincorporated Areas of Gates County.
| Approximately 1.9 miles upstream of the confluence with Folly Swamp Tributary 1 | None | +38
Folly Swamp Tributary 1 | At the confluence with Folly Swamp | None | +31 | Unincorporated Areas of Gates County.
| Approximately 1,750 feet upstream of Maryland Lane | None | +38
Goodman Swamp | At the confluence with Duke Swamp | None | +31 | Unincorporated Areas of Gates County.
| Approximately 1.3 miles upstream of the confluence of Goodman Swamp Tributary 2 | None | +47
Goodman Swamp Tributary 1 | At the confluence with Goodman Swamp | None | +34 | Unincorporated Areas of Gates County.
| Approximately 0.7 mile upstream of Union Branch Road (State Road 1305) | None | +41
Goodman Swamp Tributary 2 | At the confluence with Goodman Swamp | None | +36 | Unincorporated Areas of Gates County.
| Approximately 1.0 mile upstream of Union Branch Road (State Road 1305) | None | +48
Goose Creek | Approximately 0.7 mile downstream of Folly Road (State Road 1002) | None | +25 | Unincorporated Areas of Gates County.
| Approximately 1.3 miles upstream of the confluence of Goose Creek Tributary 1 | None | +36
Goose Creek Tributary 1 | At the confluence with Goose Creek | None | +33 | Unincorporated Areas of Gates County.
| Approximately 0.9 mile upstream of the confluence with Goose Creek | None | +40
Gum Branch | Approximately 500 feet upstream of the confluence with Jady Branch | None | +11 | Unincorporated Areas of Gates County.
| Approximately 0.8 mile upstream of Taylor Mill Road (State Road 1118) | None | +24
Hackley Swamp | At the confluence with Cole Creek and Buckland Mill Branch | None | +23 | Unincorporated Areas of Gates County.
| Approximately 0.8 mile upstream of Gates School Road (State Road 1202) | None | +39
Hackley Swamp Tributary 1 | At the confluence with Hackley Swamp | None | +26 | Unincorporated Areas of Gates County.
| Approximately 0.5 mile upstream of Sarem Road (State Road 1219) | None | +33
Harrell Swamp | At the confluence with Bennetts Creek and Raynor Swamp | +26 | +19 | Unincorporated Areas of Gates County.
| Approximately 0.8 mile upstream of the confluence of Duke Swamp | +26 | +25
Jady Branch | Just upstream of NC Highway 137 | None | +19 | Unincorporated Areas of Gates County.
| Approximately 0.5 mile upstream of Hill Lane Road (State Road 1122) | None | +24
Jernigan Branch | At the confluence with Somerton Creek | None | +12 | Unincorporated Areas of Gates County.
| Approximately 3.1 miles upstream of Gatlington Road (State Road 1302) | None | +31
Licking Branch | At the confluence with Jady Branch | None | +19 | Unincorporated Areas of Gates County.
| Approximately 0.5 mile upstream of Hill Lane Road (State Road 1122) | None | +26
Middle Swamp | At the confluence with Duke Swamp | None | +27 | Unincorporated Areas of Gates County.
| Approximately 0.5 mile upstream of Black Mingle Road (State Road 1312) | None | +32
Mill Branch | At the confluence with Buckland Mill Branch | None | +35 | Unincorporated Areas of Gates County.
| Approximately 500 feet upstream of Paige Riddick Road (State Road 1330) | None | +47
Mill Swamp | Approximately 2.0 miles downstream of U.S. Highway 13 | None | +28 | Unincorporated Areas of Gates County.
| Approximately 400 feet upstream of Drum Hill Road (State Road 1308) | None | +48
Mill Swamp Tributary 1 | At the North Carolina/Virginia boundary | None | +25 | Unincorporated Areas of Gates County.
| Approximately 0.5 mile upstream of North Carolina/Virginia boundary | None | +39
Mill Swamp Tributary 2 | At the confluence with Mill Swamp | None | +40 | Unincorporated Areas of Gates County.
| Approximately 1.3 miles upstream of the confluence with Mill Swamp Tributary 2A | None | +49
Mill Swamp Tributary 2A | At the confluence with Mill Swamp Tributary 2 | None | +40 | Unincorporated Areas of Gates County.
| Approximately 800 feet downstream of Paige Riddick Road (State Road 1330) | None | +42
Mill Swamp Tributary 3 | At the confluence with Mill Swamp | None | +41 | Unincorporated Areas of Gates County.
| Approximately 950 feet upstream of Mallory Buck Road (State Road 1309) | None | +52
Perquimans River | Approximately 0.7 mile downstream of the Gates/Perquimans County boundary | None | +11 | Unincorporated Areas of Gates County.
| Approximately 390 feet upstream of the Gates/Perquimans County boundary | None | +11
Raynor Swamp | At the confluence with Bennetts Creek and Harrell Swamp | +26 | +19 | Unincorporated Areas of Gates County.
| Approximately 0.4 mile upstream of the confluence with Raynor Swamp Tributary 6 | None | +39
Raynor Swamp Tributary 1 | At the confluence with Raynor Swamp | None | +19 | Unincorporated Areas of Gates County.
| Approximately 0.6 mile upstream of Silver Spring Lane (State Road 1404) | None | +36
Raynor Swamp Tributary 2 | At the confluence with Raynor Swamp | None | +24 | Unincorporated Areas of Gates County.
| Approximately 865 feet upstream of St. Paul Road (State Road 1338) | None | +35
Raynor Swamp Tributary 2A | At the confluence with Raynor Swamp Tributary 2 | None | +28 | Unincorporated Areas of Gates County.
| Approximately 1.1 miles upstream of the confluence with Raynor Swamp Tributary 2 | None | +38
Raynor Swamp Tributary 3 | At the confluence with Raynor Swamp | None | +27 | Unincorporated Areas of Gates County.
| Approximately 0.7 mile upstream of Sugar Run Road (State Road 1429) | None | +36
Raynor Swamp Tributary 4 | At the confluence with Raynor Swamp | None | +28 | Unincorporated Areas of Gates County.
| Approximately 0.7 mile upstream of the confluence with Raynor Swamp | None | +31
Raynor Swamp Tributary 5 | At the confluence with Raynor Swamp | None | +31 | Unincorporated Areas of Gates County.
| Approximately 1,360 feet upstream of Kees Cross Road (State Road 1427) | None | +35
Raynor Swamp Tributary 6 | At the confluence with Raynor Swamp | None | +37 | Unincorporated Areas of Gates County.
| Approximately 0.5 mile upstream of the confluence with Raynor Swamp | None | +41
Sarem Creek | At the confluence with Chowan River | None | +7 | Unincorporated Areas of Gates County.
| At the confluence with Jady Branch | None | +10
Somerton Creek | At the confluence with Chowan River | None | +12 | Unincorporated Areas of Gates County.
| Approximately 1.8 miles upstream of the confluence of Jernigan Branch | None | +12
Taylor Mill Pond | At the confluence with Jady Branch | None | +22 | Unincorporated Areas of Gates County.
| Approximately 50 feet downstream of Hill Lane Road (State Road 1122) | None | +22
Taylor Swamp | At the confluence with Corapeake Swamp | None | +29 | Unincorporated Areas of Gates County.
| Approximately 1,130 feet upstream of Brinkley Road (State Road 1307) | None | +39
Taylor Swamp Tributary 1 | At the confluence with Taylor Swamp | None | +30 | Unincorporated Areas of Gates County.
| Approximately 1.0 mile upstream of the confluence with Taylor Swamp | None | +34
Trotman Creek | Approximately 350 feet downstream of Carters Road (State Road 1100) | None | +7 | Unincorporated Areas of Gates County.
| Approximately 0.5 mile upstream of Hobbsville Road (State Road 1414) | None | +33
Trotman Creek Tributary | At the confluence with Trotman Creek | None | +10 | Unincorporated Areas of Gates County.
| Approximately 0.4 mile upstream from the confluence with Trotman Creek | None | +13
Walton Pond | At the confluence with Trotman Creek | None | +8 | Unincorporated Areas of Gates County.
| Approximately 0.8 mile upstream of NC Highway 37 | None | +22
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Gatesville
Maps are available for inspection at Gatesville Town Hall, 127 Main Street, Gatesville, NC.
Unincorporated Areas of Gates County
Maps are available for inspection at Gates County Building Inspection Office, 105 New Ferry Road, Gatesville, NC.
Transylvania County, North Carolina, and Incorporated Areas
Horsepasture River | Approximately 200 feet downstream of the Jackson/Transylvania County boundary | None | +2968 | Unincorporated Areas of Transylvania County.
| At the Jackson/Transylvania County boundary | None | +2989
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Transylvania County
Maps are available for inspection at Transylvania County Inspections Department, 98 East Morgan Street, Brevard, NC.
Oconee County, South Carolina, and Incorporated Areas
Barton Creek | At the confluence with Tugaloo River | None | +670 | Unincorporated Areas of Oconee County.
| Approximately 1,540 feet upstream of Barton Creek Road | None | +708
Beaverdam Creek | At Oconee/Pickens County boundary | None | +672 | Unincorporated Areas of Oconee County.
| Approximately 5,500 feet upstream of State Highway 59 | None | +808
Beaverdam Creek Tributary 3 | At the confluence with Beaverdam Creek | None | +677 | Unincorporated Areas of Oconee County.
| Approximately 5,500 feet upstream of the confluence with Beaverdam Creek | None | +700
Cane Creek | Approximately 1,100 feet upstream of the confluence with Little Cane Creek | None | +804 | Unincorporated Areas of Oconee County, Town of Walhalla, Town of West Union.
| Approximately 2,460 feet upstream of Rocky Knoll Road | None | +966
Choestoea Creek | At the confluence with Tugaloo River | None | +666 | Unincorporated Areas of Oconee County.
| Approximately 4,370 feet upstream of the confluence with Choestoea Creek Tributary 9 | None | +744
Cleveland Creek | At the confluence with Beaverdam Creek | None | +676 | Unincorporated Areas of Oconee County.
| Approximately 1.5 miles upstream of Feltman Road | None | +740
Colonels Fork Creek | At the confluence with Conecross Creek | None | +772 | Unincorporated Areas of Oconee County.
| Approximately 1,670 feet upstream of Bennett Road | None | +813
Conecross Creek | Approximately 2.2 miles downstream of Tokeena Road | None | +678 | Unincorporated Areas of Oconee County, City of Seneca.
| Approximately 2,630 feet upstream of Conecross Farm Road | None | +708
Conecross Tributary 1 | Approximately 2.7 miles upstream of the Oconee/Anderson County boundary | None | +665 | Unincorporated Areas of Oconee County.
| Approximately 3.4 miles upstream of the Oconee/Anderson County boundary | None | +708
Conecross Tributary 2 | At the confluence with Conecross Creek | None | +784 | Unincorporated Areas of Oconee County, Town of Walhalla.
| Approximately 2,420 feet upstream of Bear Swamp Road | None | +833
Conecross Tributary 3 | At the confluence with Conecross Creek | None | +756 | Unincorporated Areas of Oconee County.
| Approximately 850 feet upstream of State Highway 11 | None | +780
Cornhouse Creek | Approximately 1,610 feet downstream of Stamp Creek Road | None | +813 | Unincorporated Areas of Oconee County.
| Approximately 2,195 feet upstream of Stamp Creek Road | None | +819
Fair Play Creek | At the confluence with Tugaloo River | None | +665 | Unincorporated Areas of Oconee County.
| Approximately 3,200 feet downstream of Rock Creek Road | None | +665
Fall Creek | Approximately 1,830 feet downstream of Cliffs South Parkway | None | +795 | Unincorporated Areas of Oconee County.
| Approximately 935 feet downstream of Cliffs Cart Path Drive | None | +858
Hartwell Lake Tributary 1 | Approximately 360 feet downstream of Martin Creek Road | None | +665 | Unincorporated Areas of Oconee County.
| Approximately 1,850 feet upstream of Martin Creek Road | None | +672
Hartwell Lake Tributary 2 | At the confluence with Hartwell Lake | None | +665 | Unincorporated Areas of Oconee County.
| Approximately 140 feet downstream of Sunshine Road | None | +827
Hartwell Lake Tributary 3 | At the confluence with Hartwell Lake | None | +665 | Unincorporated Areas of Oconee County.
| Approximately 185 feet upstream of Rays Road | None | +859
Keowee River 2 Tributary 7 | Approximately 1,295 feet downstream of Maple Avenue | None | +810 | City of Seneca.
| Approximately 2,090 feet upstream of Maple Avenue | None | +877
Keowee River 2 Tributary 7, Tributary 1 | At the confluence with Lake Keowee | None | +800 | City of Seneca.
| Approximately 2,310 feet upstream of Seneca Drive | None | +827
Keowee River 2 Tributary 7, Tributary 1 | At the confluence with Lake Keowee | None | +800 | City of Seneca.
Tributary 1 | Approximately 65 feet upstream of North Pine Square | None | +870
Keowee River 2 Tributary 7, Tributary 1 | At the confluence with Lake Keowee | None | +800 | Unincorporated Areas of Oconee County.
Tributary 2 | Approximately 1.5 mile upstream of the confluence with Lake Keowee | None | +824
Little Beaverdam Creek | At the Oconee/Pickens County boundary | None | +692 | Unincorporated Areas of Oconee County.
| Approximately 260 feet upstream of Donald Road | None | +771
Little Beaverdam Creek Tributary 1 | At the Oconee/Pickens County boundary | None | +695 | Unincorporated Areas of Oconee County.
| Approximately 3,550 feet upstream of the Oconee/Pickens County boundary | None | +708
Little Cane Creek | Approximately 5,000 feet downstream of Pickens Highway | None | +805 | Unincorporated Areas of Oconee County.
| Approximately 1,240 feet upstream of Pickens Highway | None | +902
Little Choestoea Creek | Approximately 1 mile dowstream of Little Choestoea Road | None | +670 | Unincorporated Areas of Oconee County.
| Approximately 1,570 feet downstream of Mount Pleasant Road | None | +706
Martin Creek | Approximately 4,920 feet downstream of the confluence with Martin Creek Tributary 3 | None | +666 | City of Seneca, Unincorporated Areas of Oconee County.
| Approximately 2,560 feet upstream of South 6th Square | None | +891
Martin Creek Tributary 1 | At the confluence with Martin Creek | None | +822 | City of Seneca, Unincorporated Areas of Oconee County.
| Approximately 140 feet upstream of South 6th Square | None | +906
Martin Creek Tributary 2 | At the confluence with Martin Creek | None | +717 | Unincorporated Areas of Oconee County.
| Approximately 1,125 feet upstream of Owens Road | None | +875
Martin Creek Tributary 3 | At the confluence with Martin Creek | None | +715 | Unincorporated Areas of Oconee County.
| Approximately 2,690 feet upstream of Martin Creek Tributary 6 | None | +832
Martin Creek Tributary 6 | At the confluence with Martin Creek Tributary 3 | None | +740 | Unincorporated Areas of Oconee County.
| Approximately 2,320 feet upstream of Blue Sky Boulevard | None | +864
McKinneys Creek | At the confluence with Keowee River | None | +800 | Unincorporated Areas of Oconee County.
| Approximately 1.9 mile upstream from the confluence of Keowee River | None | +809
Mud Creek | At the confluence with Beaverdam Creek | None | +695 | Unincorporated Areas of Oconee County.
| Approximately 1.2 miles upstream of Cedar Lane Road | None | +846
Mud Creek Tributary 1 | At the confluence of Mud Creek | None | +695 | Unincorporated Areas of Oconee County.
| Approximately 630 feet upstream of Cody Road | None | +728
Perkins Creek Tributary 1 | At the confluence of Perkins Creek Tributary | None | +833 | City of Seneca, Unincorporated Areas of Oconee County.
Tributary 1 | Approximately 1,715 feet upstream of Rolling Hills Drive | None | +889
Perkins Creek Tributary 1 | At the confluence of Perkins Creek Tributary 1 | None | +786 | Unincorporated Areas of Oconee County, City of Seneca.
Tributary 2 | Approximately 2,130 feet upstream of Dalton Road | None | +847
Perkins Creek Tributary 1, Tributary 2 | At the confluence with Perkins Creek Tributary 1, Tributary 2 | None | +812 | City of Seneca.
Tributary 1 | Just downstream of W. South 6th Square | None | +897
Perkins Creek Tributary 1, Tributary 3 | At the confluence of Perkins Creek Tributary 1 | None | +801 | City of Seneca, Unincorporated Areas of Oconee County.
| Approximately 450 feet upstream of Emaerald Road | None | +878
Richland Creek | At the confluence of Conecross Creek | None | +758 | Unincorporated Areas of Oconee County.
| Approximately 3,400 feet upstream of Bountyland Road | None | +824
Seneca Creek | Just upstream of Davis Creek Road | None | +665 | Unincorporated Areas of Oconee County, City of Seneca.
| Approximately 3,100 feet upstream of Meadowbrook Drive | None | +878
Seneca Creek Tributary 1 | At the confluence of Seneca Creek | None | +667 | Unincorporated Areas of Oconee County.
| Approximately 1.1 miles upstream of the confluence of Seneca Creek | None | +745
Shiloh Branch | Approximately 980 feet upstream of Seneca Creek Road | None | +665 | Unincorporated Areas of Oconee County.
| Approximately 1.5 miles upstream of Seneca Creek Road | None | +687
Snow Creek | Approximately 690 feet downstream of Sitton Shoals Road | None | +665 | Unincorporated Areas of Oconee County.
| Approximately 290 feet upstream of Snow Creek Road | None | +789
Speeds Creek | At the confluence of Lake Hartwell | None | +665 | Unincorporated Areas of Oconee County.
| Approximately 3,630 feet upstream of Wells Highway | None | +831
Tugaloo River | Approximately 2.4 miles downstream of Interstate 85 | None | +665 | Unincorporated Areas of Oconee County.
| Approximately 3,550 feet upstream of the confluence of Battle Creek | None | +896
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Seneca
Maps are available for inspection at Seneca City Administrator, 221 East North First Street, Seneca, SC 29679.
Town of Walhalla
Maps are available for inspection at City of Walhalla City Administrator, 206 North Church Street, Walhalla, SC 29679.
Town of West Union
Maps are available for inspection at 1442 West Main Street, West Union, SC 29696.
Unincorporated Areas of Oconee County
Maps are available for inspection at Oconee County County Administrator, 415 South Pine Street, Walhalla, SC 29691.
Madison County, Tennessee, and Incorporated Areas
Cane Creek | At Hicks Avenue | +356 | +355 | City of Jackson, Unincorporated Areas of Madison County.
| Approximately 1.5 miles upstream of Riverside Drive | +437 | +434
Dyer Creek | Approximately 1,000 feet upstream of the confluence with Middle Fork of Forked Deer River | +357 | +356 | City of Jackson, Unincorporated Areas of Madison County.
| Just downstream of North Royal Street | +444 | +441
Middle Fork of Forked Deer River | Approximately 2,160 feet upstream of the confluence of Moize Creek | None | +351 | City of Three Way.
| Approximately 650 feet downstream of U.S. Route 45 | None | +356
Turkey Creek | Approximately 3,070 feet above the confluence of Middle Fork of Forked Deer River | None | +356 | City of Three Way.
| Approximately 3,470 feet upstream of Mason Road | None | +367
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Jackson
Maps are available for inspection at Planning Department, 111 East Main Street, Suite 201, Jackson, TN 38301.
City of Three Way
Maps are available for inspection at Office of the Mayor, 136 Green Road, Three Way, TN 38343.
Unincorporated Areas of Madison County
Maps are available for inspection at Madison County Commissioner's Office Building, 100 East Main Street, Jackson, TN 38301.

(Catalog of Federal Domestic Assistance No. 97.022, “Flood Insurance.”)

Dated: July 14, 2008.
David I. Maurstad,
Federal Insurance Administrator of the National Flood Insurance Program, Department of Homeland Security, Federal Emergency Management Agency.

[FR Doc. E8-16811 Filed 7-22-08; 8:45 am]

BILLING CODE 9110-12-P